DEPARTMENT OF LABOR

Employment and Training Administration

Unemployment Compensation for Ex-Servicemembers (UCX) Handbook; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data could be provided in the desired format, reporting burden (time and financial resources) is minimized, collection instruments are clearly understood, and the impact of collection requirements on respondents can be properly assessed. Currently, the Office of Workforce Security (OWS) is soliciting comments concerning the proposed revision and extension of the Unemployment Compensation for Ex-Servicemembers (UCX) Handbook.

A copy of the proposed information collection request (ICR) can be obtained by contacting the office listed below in the addressee section of this notice.

DATES: Written comments must be submitted to the office listed in the addressee section below on or before February 24, 2003.

ADDRESSES: Written comments on this notice may be mailed or delivered to Charles E. Longus, Jr., Office of Workforce Security (OWS), U.S. Department of Labor, Room S-4522, Frances Perkins Building, 200 Constitution Ave., NW., Washington, DC 20210, telephone (202) 693-3223 (this is not a toll-free number), fax number (202) 693-3229.

SUPPLEMENTARY INFORMATION:

I. Background

The UCX law (5 U.S.C. 8521-8523) provides for the payment of unemployment compensation to ex-servicemembers separated from the military service for certain reasons. State workforce agencies (SWAs), through agreement with the Secretary of Labor, act as agents of the Secretary for the purpose of providing unemployment compensation to ex-servicemembers (UCX) following the Department's regulations at 20 CFR part 614 and guidelines in the Department's Handbook for Unemployment Compensation for Ex-Servicemembers. Each SWA must be able to obtain certain military service information from each claimant filing for UCX benefits to enable them to determine his/her eligibility. The forms ETA 841 and ETA 843 (and related instructions) contained in the UCX Handbook are necessary and utilized by SWAs for the purpose of obtaining this needed information. The form ETA 841, which is in the current Office of Management and Budget (OMB) inventory of approved burden collection, has become an optional form and is no longer used by the majority of SWAs. Since the ETA 841 is rarely used, the burden is so minimal it cannot be determined; hence, no burden is being requested.

Information pertaining to the UCX claimant can only be obtained from the individual's military discharge papers, the appropriate branch of military service or the Department of Veterans Affairs (formerly the Veterans Administration). If the claimant does not have this information available, the most feasible and effective way to obtain this information is by use of the form prescribed by the Department of Labor for State agency use. Without this information, SWAs could not adequately determine the eligibility of ex-servicemembers and would not be able to properly administer the program.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This is a request for OMB approval under the Paperwork Reduction Act of 1995 (44 U.S.C. 3506(c)(2)(A)) of an extension to an existing collection of information previously approved and assigned OMB control No. 1205-0176. The current burden was based on an inventory of 66,126 UCX claims filed in FY 1999 attributed to military downsizing that took place during FY 1999 which caused a higher number of UCX claims to be filed. This request is based on same number of UCX claims filed in FY 99 since it is estimated that approximately the same number of UCX claims will be filed in fiscal years 2003, 2004 and 2005 attributed to the recall of ex-servicemembers, reservists and National Guard members to active duty due to the Middle East and Afghanistan crises. Fifty-three (53) SWAs fill out the ETA 843. The ETA 843 is used by SWAs only when it is necessary to obtain additional clarifying information from the military pertaining to the UCX claimant or to obtain a copy of DD Form 214 that was not issued to the claimant when separated from military service. It is estimated that only 5 percent (3,306) of the UCX claims filed will require use of the ETA 843. The form ETA 843 maybe sent to any one of the four branches of military service (Army, Navy, Marines, Air Force), the Coast Guard, or the National Oceanic Atmospheric Administration. These latter two agencies are considered branches of military service for UCX purposes but are not under the jurisdiction of the Department of Defense.

Type of Review: Extension, without change.

Agency: Employment and Training Administration.

Title: Unemployment Compensation for Ex-Servicemembers (UCX) Handbook.

OMB Number: 1205-0176.

Recordkeeping: The Department of Labor (DOL) does not maintain a system of records for the UCX program. UCX records are maintained by the SWAs acting as agents for the Federal Government in the administration of the UCX program. The DOL procedures permit the SWAs, upon request, to dispose of UCX records according to State law provisions 3 years after final action (including appeals or court action) on the claim, or such records may be transferred in less than the 3-year period if microphotographed in accordance with appropriate microphotography standards.

Affected Public: State governments (state workforce agencies).

Total Respondents: 3,306.

Frequency: As needed.

Total responses: 3,306.

Average Time Per Response: 1.0 minutes.

Estimated Total Burden Hours: 55 hours.

Total Burden Cost (capital/startup): 0.

Total Burden Cost (operating/maintaining): $1,526,952.

Comments submitted in response to this comment request will be summarized and/or included in the request for Office of Management and Budget approval of the information collection request; they will also become a matter of public record.

Dated: December 18, 2002.
Cheryl Atkinson,
Administrator, Office of Workforce Security.

[FR Doc. 02-32447 Filed 12-24-02; 8:45 am]

BILLING CODE 4510-30-P